DEPARTMENT OF COMMERCE

United States Patent and Trademark Office

DEPARTMENT OF JUSTICE

[Docket No. 2003-C-028]

Request for Comments on Agenda for the National Intellectual Property Law Enforcement Coordination Council

AGENCIES: Department of Justice and United States Patent and Trademark Office, Department of Commerce, as Co-Chairs, National Intellectual Property Law Enforcement Coordination Council.

ACTION: Notice and request for public comments.

SUMMARY: The National Intellectual Property Law Enforcement Coordination Council (the Council) seeks public comments relating to the agenda and mission of the Council. Interested members of the public are invited to present written comments on how to improve overall coordination and the topics outlined in the Supplementary Information section of this Notice.

DATES: All comments are due by November 28, 2003.

ADDRESSES: Persons wishing to offer written comments should address comments to the Under Secretary of Commerce for Intellectual Property and Director of the United States Patent and Trademark Office, Box 1450, Alexandria, VA 22313-1450, marked for the attention of Elizabeth Shaw. Comments may also be submitted by facsimile transmission to (703) 305-7575, or by electronic mail through the Internet to Elizabeth.shaw2@uspto.gov. All comments will be maintained for public inspection in Room 902, Crystal Park II, 2121 Crystal Drive, Arlington, Virginia.

FOR FURTHER INFORMATION CONTACT: Elizabeth Shaw by telephone at (703) 305-1033, by fax at (703) 305-7575, or by mail marked to her attention and addressed to the Under Secretary of Commerce for Intellectual Property and Director of the United States Patent and Trademark Office, Box 1450, Alexandria, VA 22313-1450.

SUPPLEMENTARY INFORMATION:

Background

The National Intellectual Property Law Enforcement Coordination Council (the Council) was created pursuant to 15 U.S.C. 1128. The Council's mission is “to coordinate domestic and international intellectual property law enforcement among federal and foreign entities.” The Council consists of the Under Secretary of Commerce for Intellectual Property and Director of the United States Patent and Trademark Office, co-chair of the Council (The Honorable James E. Rogan); the Assistant Attorney General, Criminal Division, co-chair of the Council (The Honorable Christopher A. Wray); the Under Secretary of State for Economic, Business, and Agricultural Affairs (The Honorable Alan P. Larson); the Deputy United States Trade Representative (Ambassador Peter Allgeier); the Commissioner of Customs (The Honorable Robert C. Bonner); and the Under Secretary of Commerce for International Trade (The Honorable Grant Aldonas). By statute, the Council shall also consult with the Register of Copyrights (The Honorable Marybeth Peters).

The work of the Council is a United States Government effort aimed at coordinating domestic and international intellectual property law enforcement among Federal and foreign entities. This coordinating role may be divided into two parts. The first is to provide a vehicle for agencies to share information on their activities relating to enforcement of intellectual property rights and related training activities. The second role involves projects that the Council itself may undertake.

The Council has identified the following areas of focus in fulfilling its mission: law enforcement liaison, training coordination, industry and other outreach, and increasing public awareness.

On August 5, 2002, the Council published a notice in the Federal Register seeking public comment on issues associated with the Council's mission (67 FR 50633 (2002)). A summary of comments previously received is published in the Council's 2000 Annual Report, available on the Internet at http://www.uspto.gov.

Issues for Public Comment

How the Council may best address the areas of focus listed above.

Activities the private sector is engaged in relating to public awareness campaigns involving intellectual property rights protection.

How the Council may be effective in coordinating a public awareness campaign.

Guidelines for Written Comments.

Written comments should include the following information: the name, affiliation, and title of the individual providing the written comment; and if applicable, an indication of whether the comments offered represent the views of the respondent's organization or personal views.

Parties offering written comments should also provide comments in an electronic format. Such submissions may be provided via Internet electronic mail or on a 3.5” floppy disk formatted for use in either a Macintosh or MS-DOS based computer. Electronic submissions should be provided as unformatted text (e.g. ASCII or plain text) or as formatted text in one of the following formats: Microsoft Word (Macintosh, DOS or Windows versions); or WordPerfect (Macintosh, DOS or Windows versions).

Information provided pursuant to this notice will be made part of the public record and may be made available via the Internet. In view of this, parties should not submit information that they do not wish to be publicly disclosed or made electronically accessible. Parties who rely on confidential information to illustrate a point are requested to summarize, or otherwise submit, the information in a way that permits its public disclosure.

Dated: October 22, 2003.
James E. Rogan,
Under Secretary of Commerce for Intellectual Property and Director of the Patent and Trademark Office.
Dated: October 6, 2003.
Christopher A. Wray,
Assistant Attorney General for the Criminal Division, Department of Justice.

[FR Doc. 03-27155 Filed 10-27-03; 8:45 am]

BILLING CODE 3510-16-P